DEPARTMENT OF TRANSPORTATION

Federal Highway Administration

[Docket No. FHWA-2022-0011]

Agency Information Collection Activities: Emergency Approval Request

AGENCY: Federal Highway Administration (FHWA), DOT.

ACTION: Notice and request for comments.

SUMMARY: FHWA invites public comments about our intention to request the Office of Management and Budget's (OMB) approval for a new information collection, which is summarized below under Supplementary Information. We are required to publish this notice in the Federal Register by the Paperwork Reduction Act of 1995.

DATES: Please submit comments by May 9, 2022.

ADDRESSES: You may send comments within 10 days to the Office of Information and Regulatory Affairs, Office of Management and Budget, 725 17th Street NW, Washington, DC 20503, Attention DOT Desk Officer. You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information. All comments should include the Docket number FHWA-2022-0011.

FOR FURTHER INFORMATION CONTACT: Jennifer Warren, Office of Safety, 202-366-2201, Federal Highway Administration, Department of Transportation, 1200 New Jersey Avenue SE, Washington, DC 20590. Office hours are from 8 a.m. to 5 p.m., Monday through Friday, except Federal holidays.

SUPPLEMENTARY INFORMATION:

Title: Safe Streets and Roads for All Grant Program.

Background: The Department of Transportation's Office of the Secretary and the Federal Highway Administration are committed to a comprehensive strategy to address the unacceptable number of traffic deaths and serious injuries occurring on our roads and streets. The Infrastructure Investment and Jobs Act (IIJA), also known as the Bipartisan Infrastructure Law (BIL), Section 24112 aligns with the Department's safety priority through the creation of the Safe Streets and Roads for All Grant Program. This grant program supports local initiatives to prevent death and serious injury on roads and streets. This grant program is for Metropolitan Planning Organizations, political sub-divisions of a State, federally recognized Tribal governments and multijurisdictional groups of the entities comprised above.

This grant program includes both grant funds to develop a comprehensive safety action plan; to conduct planning, design and development activities for projects and strategies identified in a comprehensive action plan or to carry out projects and strategies identified in a comprehensive action plan. To receive applications for grant funds, evaluate the effectiveness of projects that have been awarded grant fund and to monitor project financial conditions and project progress, a collection of information is necessary.

Eligible applicants will request grant funds in the form of a grant application. This grant application will assist in soliciting proposals for funding from eligible applicants. In addition, reporting requirements will be submitted by grant recipients during the grant agreement, implementation, and evaluation phases.

Responding to the grant opportunity is on a voluntary-response basis, utilizing an electronic grant platform. The grant application is planned as a one-time information collection and OST/FHWA estimates that the application will take approximately 20 hours to complete an application for a comprehensive action plan grant and approximately 100 hours to complete an application for a implementation grant.

Respondents: Metropolitan planning organizations, political subdivisions of a State, federally recognized Tribal governments and multijurisdictional groups of entities comprised above.

Frequency: Once each year.

Estimated Average Burden per Response: Approximately 20 hours for the comprehensive action plan grants and 100 hours for the implementation grants per respondent.

Estimated Total Annual Burden Hours: Approximately 120 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; 23 U.S.C. 134 and 135; and 23 CFR chapter 1, subchapter E, part 450.

Dated: April 22, 2022.
Michael Howell,
FHWA Information Collection Officer.

[FR Doc. 2022-08981 Filed 4-26-22; 8:45 am]

BILLING CODE P